DEPARTMENT OF TRANSPORTATION

Federal Highway Administration

Notice To Rescind a Notice of Intent To Prepare an Environmental Impact Statement for the Southern Evacuation Life Line Project in Georgetown and Horry Counties, SC

AGENCY: Federal Highway Administration (FHWA), DOT.

ACTION: Notice to rescind a Notice of Intent.

SUMMARY: The FHWA is issuing this notice to advise the public that, effective immediately, we are rescinding a Notice of Intent (NOI) to prepare an Environmental Impact Statement (EIS) for the proposed Southern Evacuation Life Line (SELL) project in Georgetown and Horry counties, South Carolina.

FOR FURTHER INFORMATION CONTACT: Emily O. Lawton, Division Administrator, Federal Highway Administration, Strom Thurmond Federal Building, 1835 Assembly Street, Suite 1270, Columbia, South Carolina 29201, Telephone: (803) 765-5411, Email: emily.lawton@dot.gov.

SUPPLEMENTARY INFORMATION: The FHWA, in cooperation with the South Carolina Department of Transportation (SCDOT), issued a NOI on March 17, 2006, to prepare an environmental impact statement (EIS) on a proposal for a new alignment roadway, known as the Southern Evacuation Life Line (SELL), located in Georgetown and Horry counties, South Carolina. The purpose of the project was to establish a new alignment hurricane evacuation route for the southeastern portion of Horry County and the northeastern portion of Georgetown County in South Carolina, between U.S. 17 near Garden City, SC, and U.S. 501 near Aynor, SC. The FHWA was initially involved as the lead federal agency for this project as there was a federal earmark of $4 million being used for the project that was being administered by FHWA. A Draft Environmental Impact Statement (DEIS) was prepared and a Notice of Availability was issued on August 15, 2008. However, the proposed project was postponed after the DEIS was published due a lack of funding at that time. The $4 million from the federal earmark that was being administered by FHWA was completely expended for this effort.

In late 2016, Horry County passed the RIDE III Capital Project Sales Tax program, which included an allocation of $25 million for the SELL project to fund preliminary engineering (including the preparation of a new environmental impact statement), as well as right-of-way acquisition, should a build alternative be selected for the project.

Since the federal earmark has been completely expended, and no new federal-aid highway program funding has been identified for the project, FHWA no longer has a federal action per Title 23 of the U.S. Code. In addition, given the amount of time that has passed since the DEIS was completed, SCDOT and Horry County will essentially need to restart the NEPA process for the project. Due to this, the FHWA is issuing a Notice to Rescind the Notice of Intent to prepare and EIS for the SELL project that was initially issued March 17, 2006.

Dated: August 31, 2018.
Emily O. Lawton,
Division Administrator, Columbia, South Carolina.

[FR Doc. 2018-19445 Filed 9-6-18; 8:45 am]

BILLING CODE 4910-22-P